DEPARTMENT OF JUSTICE

Drug Enforcement Administration

[Docket No. DEA-755]

Bulk Manufacturer of Controlled Substances Application: Sterling Wisconsin, LLC

AGENCY: Drug Enforcement Administration, Justice.

ACTION: Notice of application.

SUMMARY: Sterling Wisconsin, LLC has applied to be registered as a bulk manufacturer of basic class(es) of controlled substance(s). Refer to Supplemental Information listed below for further drug information.

DATES: Registered bulk manufacturers of the affected basic class(es), and applicants therefore, may file written comments on or objections to the issuance of the proposed registration on or before February 16, 2021. Such persons may also file a written request for a hearing on the application on or before February 16, 2021.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on October 15, 2020, Sterling Wisconsin, LLC, W130N10497 Washington Drive, Germantown, Wisconsin 53022-4448, applied to be registered as an bulk manufacturer of the following basic class(es) of controlled substance(s):

Controlled substance | Drug code | Schedule
Marihuana Extract | 7350 | I
Marihuana | 7360 | I
Tetrahydrocannabinols | 7370 | I
5-Methoxy-N-N-Dimethyltryptamine | 7431 | I
Oliceridine | 9245 | II
Thebaine | 9333 | II
Alfentanil | 9737 | II

The company plans to bulk manufacture the listed controlled substances to be commercially sold to registered manufacturers/suppliers. In reference to dug codes 7350 (Marihuana Extract), 7360 (Marihuana), and 7370 (Tetrahydrocannabinols), the company plans to bulk manufacture these drugs as synthetic. No other activities for these drug codes are authorized for this registration.

William T. McDermott,
Assistant Administrator.

[FR Doc. 2020-27512 Filed 12-14-20; 8:45 am]

BILLING CODE P